DEPARTMENT OF HEALTH AND HUMAN SERVICES

Administration for Children and Families

Proposed Information Collection Activity; Comment Request

Proposed Projects

Title: HHS/ACF/OPRE Head Start Classroom-based Approaches and Resources for Emotion and Social skill promotion (CARES) project: Impact and Implementation Studies.

OMB No.: New Collection.

Description: The Head Start Classroom-based Approaches and Resources for Emotion and Social skill promotion (CARES) project will evaluate social emotional program enhancements within Head Start settings serving three- and four-year-old children. This project focuses on identifying the central features of effective programs to provide the information Federal policy makers and Head Start providers will need if they are to increase Head Start's capacity to improve the social and emotional skills and school readiness of preschool-age children. The project is sponsored by the Office of Planning, Research and Evaluation (OPRE) of the Administration for Children and Families (ACF).

The Head Start CARES project will use a group-based randomized design to test the effects of three different evidence-based programs designed to improve the social and emotional development of children in Head Start classrooms.

The purpose of this data collection is to assess the impact and implementation of program models through surveys with teachers and parents, direct child assessments, as well as interviews with teachers, local coaches, trainers and center staff.

Respondents: The respondents to these various surveys will include Head Start lead teachers, center staff and directors, trainers, local coaches, low-income parents and their Head Start children. Children in the study will be three- and four-year-olds in the selected Head Start classrooms.

Annual Burden Estimates
Instrument | Annual number of respondents | Number of responses per respondent | Average burden hours per response | Estimated annual burden hours
Lead Teacher Self-Report Survey | 360 | 1 | 0.33 | 119
Teacher Report on Individual Children | 4,880 | 1.5 | 0.33 | 2,416
Parent Survey | 4,880 | 1 | 0.33 | 1,610
Direct Child Assessment | 4,880 | 1.5 | 0.75 | 5,490
Trainer Survey | 60 | .5 | 0.33 | 10
Coach Survey | 540 | .5 | 0.33 | 89
Site Visit: Coach Interview Guide | 60 | .5 | 1 | 30
Site Visit: Teacher Interview Guide | 360 | .5 | 1 | 180
Site Visit: Center Staff Interview Guide | 450 | .5 | 1 | 225

Estimated Total Annual Burden Hours: 10,169.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: November 25, 2008.
Brendan C. Kelly,
OPRE Reports Clearance Officer.

[FR Doc. E8-28481 Filed 12-1-08; 8:45 am]

BILLING CODE 4184-01-M